ENVIRONMENTAL PROTECTION AGENCY

40 CFR Part 60

[EPA-HQ-OAR-2010-0706; FRL-9919-03-OAR]

RIN 2060-AP06

Standards of Performance for Grain Elevators

AGENCY: Environmental Protection Agency.

ACTION: Proposed rule; reopening of public comment period.

SUMMARY: The Environmental Protection Agency (EPA) is announcing that the period for providing public comments on the July 9, 2014, proposed rule titled “Standards of Performance for Grain Elevators” is being extended an additional 45 days.

DATES: The public comment period for the proposed rule published July 9, 2014 (79 FR 39241), and initially extended by 30 days on September 16, 2014 (79 FR 55413), is being extended an additional 45 days to December 22, 2014, in order to provide the public additional time to submit comments and supporting information.

ADDRESSES: Written comments on the proposed rule may be submitted to the EPA electronically, by mail, by facsimile or through hand delivery/courier. Please refer to the proposal (79 FR 39241) for the addresses and detailed instructions.

Docket. Publicly available documents relevant to this action are available for public inspection either electronically at http://www.regulations.gov or in hard copy at the EPA Docket Center, EPA WJC West Building, Room 3334, 1301 Constitution Ave. NW., Washington, DC. The Public Reading Room is open from 8:30 a.m. to 4:30 p.m., Monday through Friday, excluding legal holidays. A reasonable fee may be charged for copying. The EPA has established the official public docket for this rulemaking under Docket No. EPA-HQ-OAR-2010-0706.

World Wide Web. The EPA Web site containing information for this rulemaking is: http://www.epa.gov/ttn/atw/nsps/grain/genspspg.html.

FOR FURTHER INFORMATION CONTACT: Mr. William Schrock, Natural Resources Group (E143-03), Sector Policies and Programs Division, Research Triangle Park, North Carolina 27711; telephone number (919) 541-5032; fax number (919) 541-3470; and email address: schrock.bill@epa.gov.

SUPPLEMENTARY INFORMATION:

Comment Period

The EPA is extending the public comment period for an additional 45 days. The public comment period will end on December 22, 2014, rather than November 6, 2014. This will ensure that the public has sufficient time to review and comment on all of the information available, including the proposed rule and other materials in the docket.

Dated: November 3, 2014.
Mary E. Henigin,
Acting Director for Office of Air Quality Planning and Standards.

[FR Doc. 2014-26524 Filed 11-6-14; 8:45 am]

BILLING CODE 6560-50-P